ENVIRONMENTAL PROTECTION AGENCY

[ER-FRL-6676-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20050540, ERP No. D-FAA-C51029-00, New York/New Jersey/Philadelphia Metropolitan Area Airspace Redesign Project, To Increase the Efficiency and Reliability of the Airspace Structure and Air Traffic Control System, NY, NJ and PA.

Summary: EPA expressed environmental concern about cumulative impacts. EPA also requested information on outreach to environmental justice communities impacted by noise and mitigation/minimization of noise exposure to those communities. Rating EC2.

EIS No. 20060154, ERP No. D-NPS-E65081-FL, Castillo de San Marcos National Monument, General Management Plan, Implementation, City of St. Augustine, St. Johns County, FL.

Summary: EPA does not object to the proposed action. Rating LO.

EIS No. 20060170, ERP No. D-COE-K39097-AZ, Rio Salado Oeste Project, Ecosystem Restoration along the Salt River, City of Phoenix, Maricopa County, AZ.

Summary: EPA supports the restoration project and requested more information regarding adaptive management plans. Rating LO.

EIS No. 20060050, ERP No. DR-COE-E34031-FL, Central and Southern Florida Project, Revised Draft Integrated Project Implementation Report, Comprehensive Restoration Plan, Implementation, Everglades Agricultural Area Storage Reservoirs, Palm Beach County, FL.

Summary: While EPA fully supports the construction and operation of the proposed project, it expressed environmental concerns about potential water quality impacts, and requested that additional water quality information be included in the Final EIS. Rating EC1.

Final EISs

EIS No. 20060156, ERP No. F-COE-J39034-MT, Upper Columbia Alternative Flood Control and Fish Operations, Implementation, Libby and Hungry Horse Dams, Columbia River Basin, MT.

Summary: EPA supports the basic goal of operating Libby and Hungry Horse Dams to simulate a more natural hydro graph for aquatic ecosystem benefits. EPA also supports the Flow Implementation Protocol being developed by the Corps and other stakeholders. However, EPA expressed environmental concerns about the potential for the new Libby Dam to result in increased total dissolved gas levels in the Kootenai River that would exceed the state of Montana's Water Quality Standards.

EIS No. 20060157, ERP No. F-IBR-K39076-00, Navajo Reservoir Operations, Proposed Operational Changes to Navajo Dam and Reservoir, Endangered Species Act (ESA), Related Flow Recommendations, Navajo Unit-San Juan River, NM, CO and UT.

Summary: EPA supports the modification of operation of Navajo Dam to meet flow recommendations for the sucker and pikeminnow, and requested additional commitments to mitigation and monitoring for water quality impacts.

EIS No. 20060196, ERP No. F-COE-E34031-FL, South Florida Water Management District (SFWMD), Proposes Construction and Operation Everglades Agricultural Area Reservoir A-1 Project, Lake Okeechobee, Palm Beach County, FL.

Summary: EPA continues to support this element of the original selected alternative as having reasonable and feasible objectives while providing sufficient environmental restoration benefits; therefore, EPA does not object to the proposed action.

EIS No. 20060225, ERP No. F-BLM-K65293-NV, Sheep Complex, Big Springs and Owyhee Grazing Allotments Sensitive Bird Species Project, Determine Impacts of Livestock Grazing, Elko County, NV.

Summary: Modifications to the selected alternative, such as using phased grazing levels and the implementation of monitoring and adaptive management measures that rely on ecosystem goals have addressed EPA's concerns; therefore, EPA does not object to the proposed action.

Dated: June 28, 2006.
Robert W. Hargrove,
Director, NEPA Compliance Division, Office of Federal Activities.

[FR Doc. E6-10395 Filed 6-30-06; 8:45 am]

BILLING CODE 6560-50-P